DEPARTMENT OF THE INTERIOR

Geological Survey

Request for Public Comments on Information Collection Submitted to OMB for Review Under the Paperwork Reduction Act

The proposal for the information collection described below has been submitted to the Office of Management and Budget for approval under the provisions of the Paperwork Reduction Act (44 U.S.C. Chapter 35). Copies of the proposed collection of information may be obtained by contacting the Bureau's clearance officer at the phone number listed below. OMB has up to 60 days to approve or disapprove the information collection, but may respond after 30 days; therefore comments on the proposal should be made directly to the Desk Officer for the Interior Department, Office of Regulatory Affairs, Office of Management and Budget, Washington, DC 20503; and to the Bureau Clearance Officer, U.S. Geological Survey, 807 National Center, 12201 Sunrise Valley Drive, Reston, Virginia, 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: North American Breeding Bird Survey.

Current OMB Approval Number: None.

Summary: The North American Breeding Bird Survey (BBS) is a long-term, large-scale avian monitoring program that was initiated in 1966 to track the status and trends of continental bird populations. Each spring, interested volunteers conduct 3-minute point counts of birds along roadsides across the United States. Data can be submitted electronically via the Internet or on hard copy. These data provide an index of population abundance that can be used to estimate population trends and relative abundances at various geographic scales. Declining population trends act as an early warning system to galvanize research to determine the causes of these declines and reverse them before populations reach critically low levels. The BBS currently provides population trend estimates for 420 bird species and raw data for more than 650 species via the web.

Estimated Annual Number of Respondents: 2500.

Estimated Annual Burden Hours: 12,500 hours.

Affected Public: Primarily U.S. residents.

For Further Information Contact: To obtain copies of the survey, contact the Bureau clearance officer, U.S. Geological Survey, 807 National Center, 12201 Sunrise Valley Drive, Reston, Virginia, 20192, telephone (703) 648-7313.

Dated: October 15, 2001.
Dennis B. Fenn,
Associate Director for Biology.

[FR Doc. 01-26368 Filed 10-18-01; 8:45 am]

BILLING CODE 4310-Y7-M